DEPARTMENT OF HEALTH AND HUMAN SERVICES

Administration for Children and Families

Office of Planning, Research and Evaluation

AGENCY: Office of Planning, Research and Evaluation (OPRE), Administration for Children and Families (ACF), Department of Health and Human Services (HHS).

ACTION: Notice.

CFDA#: 93.600.

Statutory Authority: Section 649 of the Head Start Act, as amended by the COATES Human Services Reauthorization Act of 1998 (Pub. L. 105-285) and 42 U.S.C. 9844.

SUMMARY: Notice is hereby given that the Administration for Children and Families (ACF), Office of Planning, Research and Evaluation (OPRE) will award a non-competitive successor grant to OMNI Institute, Inc., a non-profit research organization located in Denver, CO. OMNI Institute, Inc. will assume a grant awarded under the Head Start University Partnership Research Grants: Curriculum Development and Enhancement for Head Start and Early Head Start Programs for the remainder of the project period July 15, 2007 to September 29, 2008. This action is taken as the original grantee, the University of Colorado Health Sciences Center, has relinquished the grant.

FOR FURTHER INFORMATION CONTACT: Wendy DeCourcey, PhD., Social Science Research Analyst, Administration for Children and Families, Office of Planning, Research and Evaluation, 370 L'Enfant Promenade, SW., Washington, DC 20447, or by phone at (202) 260-2039, or by e-mail at wdecourcey@acf.hhs.gov.

Dated: September 24, 2007.
Naomi Goldstein,
Director, Office of Planning, Research and Evaluation.

[FR Doc. E7-19276 Filed 9-27-07; 8:45 am]

BILLING CODE 4184-01-P